DEPARTMENT OF TRANSPORTATION

Federal Aviation Administration

14 CFR Part 39

[Docket No. FAA-2005-20848; Directorate Identifier 2005-NE-02-AD; Amendment 39-14323; AD 2005-20-26]

RIN 2120-AA64

Airworthiness Directives; Aviointeriors S.p.A. (formerly ALVEN), Series 312 Box Mounted Seats

AGENCY: Federal Aviation Administration (FAA), Department of Transportation (DOT).

ACTION: Final rule.

SUMMARY: The FAA is adopting a new airworthiness directive (AD) for Aviointeriors S.p.A. (formerly ALVEN), series 312 box mounted seats. This AD requires initial and repetitive inspections of the seat attachments for cracks, and if necessary, replacing the attachments. This AD results from 10 reports of cracked attachments of series 312 box mounted seats. We are issuing this AD to prevent series 312 box mounted seats from detaching from the passenger compartment floor, which could result in injury to the occupant of the seat, and prevent evacuation of passengers in the event of an emergency.

DATES: This AD becomes effective November 16, 2005. The Director of the Federal Register approved the incorporation by reference of certain publications listed in the regulations as of November 16, 2005.

ADDRESSES: Contact Aviointeriors S.p.A., Via Appia Km. 66.4—04013 Latina, Italy; telephone: 39-0773-6891; fax: 39-0773-631546 for the service information identified in this AD.

You may examine the AD docket on the Internet at http://dms.dot.gov or in Room PL-401 on the plaza level of the Nassif Building, 400 Seventh Street, SW., Washington, DC.

FOR FURTHER INFORMATION CONTACT: Jeffrey Lee, Aerospace Engineer, Boston Aircraft Certification Office, FAA, Engine and Propeller Directorate, 12 New England Executive Park, Burlington, MA 01803-5299; telephone: 781-238-7161; fax: 781-238-7170.

SUPPLEMENTARY INFORMATION: The FAA proposed to amend 14 CFR part 39 with a proposed airworthiness directive (AD). The proposed AD applies to Aviointeriors S.p.A. (formerly ALVEN), series 312 box mounted seats. We published the proposed AD in the Federal Register on April 11, 2005 (70 FR 18322). That action proposed to require initial and repetitive inspections of the seat attachments for cracks, and if necessary, replacing the attachments.

Examining the AD Docket

You may examine the docket that contains the AD, any comments received, and any final disposition in person at the Docket Management Facility Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Comments

We provided the public the opportunity to participate in the development of this AD. We received no comments on the proposal or on the determination of the cost to the public.

Conclusion

We have carefully reviewed the available data and determined that air safety and the public interest require adopting the AD as proposed.

Costs of Compliance

There are about 68 Aviointeriors S.p.A. series 312 box mounted seats installed on airplanes of U.S. registry that are affected by this AD. We estimate that it will take about 0.5 work hour per seat to perform the inspections, and about 0.5 work hour per seat to perform the replacement of an attachment. The average labor rate is $65 per work hour. Required parts will cost about $297.50 per seat. Based on these figures, we estimate the total cost of one inspection and total parts replacement to U.S. operators to be $24,650.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2005-20-06 Aviointeriors S.p.A. (formerly ALVEN): Amendment 39-14323. Docket No. FAA-2005-20848; Directorate Identifier 2005-NE-02-AD.

Effective Date

(a) This airworthiness directive (AD) becomes effective November 16, 2005.

Affected ADs

(b) None.

Applicability

(c) This AD applies to Aviointeriors S.p.A. (formerly ALVEN), series 312 box mounted seats, part number (P/N) 312( )( )27-( )( )( )( )( ) and P/N 312( )( )36-( )( )( )( )( ). These seats are installed in, but not limited to, Fokker Model F27 Mark 050, Mark 500, and Mark 600 airplanes.

(d) The parentheses appearing in the seat P/N indicate the presence or absence of an additional letter(s), or number(s), that varies the basic seat configuration. This AD still applies regardless of whether these letters, or numbers, are present or absent in the seat P/N designation.

Unsafe Condition

(e) This AD results from 10 reports of cracked attachments of series 312 box mounted seats. We are issuing this AD to prevent series 312 box mounted seats from detaching from the passenger compartment floor, which could result in injury to the occupant of the seat, and prevent evacuation of passengers in the event of an emergency.

Compliance

(f) You are responsible for having the actions required by this AD performed within the compliance times specified unless the actions have already been done.

Attachments That Have Already Accumulated 8,000 Hours Time-In-Service (TIS) or More

(g) For attachments that have already accumulated 8,000 hours TIS or more on the effective date of this AD, do the following:

(1) Within 90 days after the effective date of this AD, replace attachments with new attachments of the same P/N, using Section 2., Replacement Procedure, Steps 2.4 though 2.6 of Aviointeriors Service Bulletin No. 312/912-05, Revision 1, dated August 24, 2001.

(2) Perform repetitive visual inspections as specified in paragraph (i) of this AD.

Initial Visual Inspection

(h) Perform an initial visual inspection of the seat outboard and inboard attachments for cracks, within 90 days after the effective date of this AD, as follows:

(1) Inspect seat outboard attachment, part number (P/N) DM03313-1, and seat inboard attachment, P/N DM03314-1, using Section 2., Inspection Procedure, Steps 2.1 through 2.5 of Aviointeriors Service Bulletin (SB) No. 312/912-05, Revision 1, dated August 24, 2001.

(2) Replace any cracked attachment with a new attachment of the same P/N, using Section 2., Replacement Procedure, Steps 2.4 though 2.6 of Aviointeriors SB No. 312/912-05, Revision 1, dated August 24, 2001.

(3) Replace attachments when they have accumulated 8,000 hours time-in-service (TIS), with new attachments of the same P/N, using Section 2., Replacement Procedure, Steps 2.4 though 2.6 of Aviointeriors SB No. 312/912-05, Revision 1, dated August 24, 2001.

Repetitive Visual Inspections

(i) Within 650 hours TIS after the last inspection, or within 650 hours TIS after attachment was replaced, and whenever the seat is being installed or removed, perform repetitive visual inspections for cracks, and replace cracked seat outboard and inboard attachments. Use paragraphs (h)(1) through (h)(3) of this AD to inspect and disposition the attachments.

Alternative Methods of Compliance

(j) The Manager, Boston Aircraft Certification Office, has the authority to approve alternative methods of compliance for this AD if requested using the procedures found in 14 CFR 39.19.

Related Information

(k) Ente Nazionale per l'Aviazione Civile airworthiness directive AD 2001-479, dated November 12, 2001, also addresses the subject of this AD.

Material Incorporated by Reference

(l) You must use Aviointeriors Service Bulletin No. 312/912-05, Revision 1, dated August 24, 2001, to perform the actions required by this AD. The Director of the Federal Register approved the incorporation by reference of this service bulletin in accordance with 5 U.S.C. 552(a) and 1 CFR part 51. Contact Aviointeriors S.p.A., Via Appia Km. 66.4—04013 Latina, Italy; telephone: 39-0773-6891; fax: 39-0773-631546, for a copy of this service information. You may review copies at the Docket Management Facility; U.S. Department of Transportation, 400 Seventh Street, SW., Nassif Building, Room PL-401, Washington, DC 20590-0001, on the internet at http://dms.dot.gov, or at the National Archives and Records Administration (NARA). For information on the availability of this material at NARA, call 202-741-6030, or go to: http://www.archives.gov/federal-register/cfr/ibr-locations.html.

Issued in Burlington, Massachusetts, on September 30, 2005.
Francis A. Favara,
Acting Manager, Engine and Propeller Directorate, Aircraft Certification Service.

[FR Doc. 05-19941 Filed 10-11-05; 8:45 am]

BILLING CODE 4910-13-P